ENVIRONMENTAL PROTECTION AGENCY

[EPA-HQ-OPPT-2008-1080; FRL-8352-6]

Endocrine Disruptor Screening Program; Second Workshop to Discuss Draft Policies and Procedures; Notice of Public Meeting

AGENCY: Environmental Protection Agency (EPA).

ACTION: Notice.

SUMMARY: EPA is convening a half-day public workshop to discuss the Agency's draft administrative policies and procedures for completing the initial screening and testing under EPA's Endocrine Disruptor Screening Program (EDSP). In the Federal Register issue of December 13, 2007 (72 FR 70842) (FRL-8340-3), EPA announced the availability for public review and comment of the draft policies and procedures EPA is considering adopting for conducting the initial screening and testing under EDSP. A 1-day public workshop was held on December 17, 2007, in Arlington, VA to help the public understand the draft policies and procedures. Subsequently, EPA extended the public comment period for the draft policies and procedures by 30 days in the Federal Register issue of February 6, 2008 (73 FR 6963) (FRL-8351-2). The public comment period now ends March 12, 2008. The purpose of the second public workshop, announced in this notice, is to provide another opportunity for the public to ask questions about the draft EDSP policies and procedures.

DATES: The meeting will be held on Thursday, February 28, 2008, from 9 a.m. to noon.

Special accommodations: For information on access or services for individuals with disabilities, and to request accommodation of a disability, please contact the person listed under FOR FURTHER INFORMATION CONTACT at least 10 days prior to the meeting to give EPA as much time as possible to process your request.

ADDRESSES: The meeting will be held at the Environmental Protection Agency, Conference Center-Lobby Level, One Potomac Yard (South Bldg.), 2777 S. Crystal Dr., Arlington, VA 22202.

FOR FURTHER INFORMATION CONTACT: William Wooge, Office of Science Coordination and Policy (OSCP), Environmental Protection Agency, 1200 Pennsylvania Ave., NW., Washington, DC 20460-0001; telephone number: (202) 546-8476; e-mail address: wooge.william@epa.gov.

SUPPLEMENTARY INFORMATION:

I. Who Should Attend?

You may be interested in attending this workshop if you produce, manufacture, use, or import pesticide/agricultural chemicals and other chemical substances; or if you are or may otherwise be involved in the testing of chemical substances for potential endocrine effects. To determine whether you or your business may have an interest in this workshop, you should carefully examine section 408(p) of the Federal, Food, Drug, and Cosmetic Act (FFDCA) (21 U.S.C. 346a(p)).

II. Why Hold a Second Workshop?

EPA is holding a half-day workshop to facilitate the public's comments on the draft policies and procedures that EPA is considering for conducting the initial screening and testing of chemicals under the EDSP. The workshop is a second opportunity for the public, stakeholders, and the regulated community to discuss the draft EDSP policies and procedures currently available for public comment. Although the workshop is not intended to collect oral comments, the Agency intends to consider the discussion and will be documenting the discussion for the public docket.

In addition to attending this workshop, EPA invites you to provide comments on the draft policies and procedures for initial EDSP screening and testing. The December 13, 2007 Federal Register document that announced the availability of draft policies and procedures for public comment included a specific list of questions on which the Agency is specifically seeking comment. This list, along with an agenda for the workshop, will be posted on the Agency's website at http://www.epa.gov/scipoly/oscpendo/index.htm and provided at the workshop. EPA will consider all comments received, and EPA will announce the availability of the final versions of the policies and procedures for the initial EDSP screening and testing in the Federal Register.

List of Subjects

Environmental protection, Chemicals, Endocrine disruptors, Pesticides and pests, Reporting and recordkeeping.

Dated: February 7, 2008.
James B. Gulliford,
Assistant Administrator, Office of Prevention, Pesticides and Toxic Substances.

[FR Doc. E8-2701 Filed 2-12-08; 8:45 am]

BILLING CODE 6560-50-S